NUCLEAR REGULATORY COMMISSION

[Docket No. 030-04530]

Notice of Availability of Environmental Assessment and Finding of No Significant Impact for License Amendment for U.S. Department of Agriculture Facility in Mission, TX

AGENCY: Nuclear Regulatory Commission.

ACTION: Notice of availability.

FOR FURTHER INFORMATION CONTACT: Sattar Lodhi, Materials Security & Industrial Branch, Division of Nuclear Materials Safety, Region I, 475 Allendale Road, King of Prussia, Pennsylvania, 19406, telephone (610) 337-5364, fax (610) 337-5269; or by e-mail: asl@nrc.gov.

SUPPLEMENTARY INFORMATION:

I. Introduction

The U.S. Nuclear Regulatory Commission (NRC) is considering the issuance of a license amendment to U.S. Department of Agriculture (USDA) for Materials License No. 19-00915-03, to authorize remediation activities at its radioactive waste burial site located at Moore Air Base (MAB) in Mission, Texas. The NRC has prepared an Environmental Assessment (EA) in support of this proposed action in accordance with the requirements of 10 CFR part 51. Based on the EA, the NRC has concluded that a Finding of No Significant Impact (FONSI) is appropriate.

II. EA Summary

The purpose of the proposed action is to authorize remediation activities at the licensee's radioactive waste burial site at MAB in Mission, Texas. USDA was authorized initially by the U.S. Atomic Energy Commission in the mid 1950's and later by the NRC to use radioactive materials for research and development purposes at the site. On May 5, 2005, USDA requested that NRC authorize remediation activities at the burial site. USDA has submitted to the NRC a plan to remediate the burial site.

The NRC staff has prepared an EA in support of the license amendment. The NRC staff has reviewed the information contained in the licensee's remediation plan. Based on its review, the staff has determined that the licensee has developed adequate procedures to ensure that the digging, removing and transporting the waste from the burial site will not have a significant impact on the environment and the workers. The staff has also determined that no additional information is necessary to complete the proposed action. Therefore, the staff considered the impact of the remediation activities at the facility and concluded that a Finding of No Significant Impact is appropriate.

III. Finding of No Significant Impact

The NRC staff has prepared the EA (summarized above) in support of the license amendment request. On the basis of the EA, the NRC has concluded that there are no significant environmental impacts from the proposed action, and has determined not to prepare an environmental impact statement for the proposed action.

IV. Further Information

Documents related to this action, including the application for the license amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this Notice are: USDA's plan to remediate the radioactive waste burial site at MAB (ML051300095), EA in support of the amendment request (ML060940281), review of EA by the State of Texas (ML053120414). Persons who do not have access to ADAMS or who encounter problems in accessing the documents located in ADAMS, should contact the NRC PDR Reference staff by telephone at (800) 397-4209 or (301) 415-4737, or by e-mail to pdr@nrc.gov. These documents may also be viewed electronically on public computers located at the NRC's PDR, 01F21, One White Flint, 11555 Rockville Pike, Rockville, MD 20852. The PDR contractor will copy documents for a fee.

Documents related to operations conducted under this license not specifically referenced in this Notice may not be electronically available and/or may not be publicly available. Persons who have an interest in reviewing these documents should submit a request to NRC under the Freedom of Information Act (FOIA). Instructions for submitting a FOIA request can be found on the NRC's Web site at http://www.nrc.gov/reading-rm/foia/foia-privacy.html.

Dated at King of Prussia, Pennsylvania this 6th day of April, 2006.
For the Nuclear Regulatory Commission.
John D. Kinneman,
Chief, Materials Security & Industrial Branch, Division of Nuclear Materials Safety, Region I.

[FR Doc. E6-5715 Filed 4-17-06; 8:45 am]

BILLING CODE 7590-01-P